DEPARTMENT OF STATE

[Public Notice: 11153]

Commission on Unalienable Rights; Notice of Open Meeting

The Members of the Commission on Unalienable Rights (“Commission”) will meet from 2:00 p.m. until 3:00 p.m. on Thursday, July 16, to present the Commission's proposed Report to the public. The meeting will be in Philadelphia at the National Constitution Center, 525 Arch Street, Independence Mall. Doors will open at 1:30 p.m. The Secretary of State will attend, and there will not be late seating available for the meeting.

The conclusion of the meeting will start a two-week public comment period on the Report ending July 30 at midnight. An electronic facsimile of the report will be posted on the Commission's web page: www.state.gov/commission-on-unalienable-rights on July 16. The final Report, following a consideration of the comments received, will be posted to the Commission's website after the conclusion of the public comment period.

This meeting is open to the public, though seating is limited and on a first-come-first-served basis. To register for the meeting, members of the public planning to attend must, no later than July 7, provide their full name and email address to RSVPCommission@state.gov. Requests for reasonable accommodation should be made at the same time as the notification. Late requests will be considered, but might not be possible to fulfill. Email addresses are collected for purposes of notification, should the meeting be postponed or cancelled due to weather or other exigencies.

This announcement may appear in the Federal Register less than 15 days prior to the meeting. The Department of State finds that there is an exceptional circumstance in that this advisory committee meeting must be held on July 16 due to the Secretary's schedule.

For additional information, please contact Duncan Walker, Policy Planning Staff, at (202) 647-2236/3490, orwalkerdh3@state.gov.

Duncan H. Walker,
Designated Federal Officer, Department of State.

[FR Doc. 2020-14339 Filed 7-1-20; 8:45 am]

BILLING CODE 4710-10-P